DEPARTMENT OF HOUSING AND URBAN DEVELOPMENT

[Docket No. FR-5915-N-06]

60-Day Notice of Proposed Information Collection: Notice of Proposed Information Collection for Public Comment: Evaluation of the Office of Public and Indian Housing's (PIH) Energy Performance Contracting (EPC) Program

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 20, 2016.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Evaluation of the Office of Public and Indian Housing's (PIH) Energy Performance Contracting (EPC) Program.

OMB Approval Number: None.

Type of Request: This is a new request.

Form Number: None.

Description of the need for the information and proposed use: The information is being collected to explore and document the effectiveness and value of HUD's Energy Performance Contracting (EPC) program. EPCs are an innovative financing technique designed to provide Public Housing Authorities (PHAs) with cost-effective energy improvements that are installed with little or no up-front expenditures, wherein the costs of the improvements are typically borne by the performance contractor and repaid using a portion of the cost savings resulting from the improvements. HUD has approved approximately 315 EPCs, totally nearly $1.5 billion in investments, since this type of financing began in the 1980s. EPCs have been executed in all ten HUD Regions and in very small (less than 250 units) to very large (more than 6,599 units) PHAs; however to date, no substantive review of the program's performance has been conducted. The proposed data collection instrument is a web-based survey that will be supported by follow-up telephone interviews to a subset of the study's participants.

Respondents (i.e. affected public): Employees of housing organizations receiving funding from HUD, specifically public housing authorities.

Estimated Number of Respondents: 492 (consisting of PHAs that have: (1) Executed an EPC, (2) begun the EPC application process but didn't execute the EPC, and (3) never been associated with an EPC),

Estimated Number of Responses: 394 (based on an 80% response rate, web survey or telephone interviews).

Frequency of Response: 1.

Average Hours per Response: 0.79 (weighted average).

Total Estimated Burdens: 312.

Information collection | Number of respondents | Frequency of response | Responses per annum | Burden hour per response | Annual burden hours | Hourly cost per response | Annual cost
Web Survey | 328 | 1 | 1 | 0.75 | 246 | $44.15 | $10,861
Telephone Interview | 66 | 1 | 1 | 1 | 66 | 44.15 | 2,914
Total | 394 |  |  |  | 312 |  | 13,775

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

Authority: Section 3507 of the Paperwork Reduction Act of 1995, 44 U.S.C. Chapter 35.

Dated: May 11, 2016.
Matthew E. Ammon,
General Deputy Assistant Secretary for Policy Development and Research.

[FR Doc. 2016-17391 Filed 7-21-16; 8:45 am]

BILLING CODE 4210-67-P